DEPARTMENT OF TRANSPORTATION

Transportation Security Administration

[Docket No. TSA-2002-11602]

Intent To Request Renewal From the Office of Management and Budget (OMB) of One Current Public Collection of Information; Security Programs for Foreign Air Carriers

AGENCY: Transportation Security Administration (TSA), DOT.

ACTION: Notice.

SUMMARY: TSA invites public comment on a currently-approved information collection requirement concerning security programs for foreign air carriers, which will be submitted to OMB for renewal.

DATES: Send your comments on or before October 15, 2002.

ADDRESSES: Address your comments to the Docket Management System, U.S. Department of Transportation, Room Plaza 401, 400 Seventh Street, SW., Washington, DC 20590-0001. You must identify the docket number TSA-2002-11602 at the beginning of your comments, and you should submit two copies of your comments. If you wish to receive confirmation that TSA received your comments, include a self-addressed, stamped postcard.

You may also submit comments through the Internet to http://dms.dot.gov. You may review the public docket containing comments to these proposed regulations in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Nouri Larbi, Security Regulation and Policy, Room 323, Transportation Security Administration, 800 Independence Avenue, SW., Washington, DC 20591; telephone (202) 267-8543; facsimile (202) 267-5359, e-mail nouri.larbi@faa.gov.

SUPPLEMENTARY INFORMATION:

Availability of Documents

You can get an electronic copy using the Internet through the DOT's public docket at http://dms.dot.gov, through the Government Printing Offices Web Page at http://www.access.gpo.gov/su_docs/aces/aces140.html, or through the TSA's Laws and Regulations Web Page at http://www.tsa.gov/laws_regs/gov_index.shtm.

In addition, copies are available by writing or calling the individual in the FOR FURTHER INFORMATION CONTACT section. Make sure to identify the docket number previously mentioned at the beginning of this notice.

Comments Invited

In accordance with the Paperwork Reduction Act of 1995, (44 U.S.C. 3501, et seq.) an agency may not conduct or sponsor, and a person is not required to respond to a collection of information, unless it displays a valid OMB control number. With this notice, TSA solicits comments on the collection of information described below, in order to evaluate the necessity of the collection, the accuracy of the agency's estimate of the burden, the quality, utility, and clarity of the information to be collected, and possible ways to minimize the burden of the collection in preparation for submission to renew clearance of the following information collection:

Security Programs for Foreign Air Carriers, 49 CFR part 1546; 2110-0006. The Federal Aviation Administration initially required this collection under 14 CFR part 129 (now 49 CFR part 1546) and cleared under OMB control number 2120-0536. The responsibility for the collection has been transferred to TSA and assigned OMB control number 2110-0006. The information collected is used to determine compliance with 49 CFR part 1546 and to ensure passenger safety by monitoring foreign air carrier security procedures. These security programs establish procedures that foreign air carriers must carry out to protect persons and property against acts of criminal violence, aircraft piracy, and terrorist activities. The current estimated annual reporting burden is 5,193 hours.

Issued on August 8, 2002.
Tom Blank,
Associate Under Secretary for Security Regulation and Policy.

[FR Doc. 02-20484 Filed 8-12-02; 8:45 am]

BILLING CODE 4910-62-P